DEPARTMENT OF AGRICULTURE

Rural Business-Cooperative Service

Inviting Rural Business Development Grant Program Applications for Grants To Provide Technical Assistance for Rural Transportation Systems

AGENCY: Rural Business—Cooperative Service, USDA.

ACTION: Initial Notice; Correction.

SUMMARY: This document corrects an error in the initial notice that appeared in the Federal Register on July 28, 2015, entitled “Inviting Rural Business Development Grant Program Applications for Grants to Provide Technical Assistance for Rural Transportation Systems.” On page 44928, first column, the incorrect application deadline date was used and does not match with the date under the DATES section of the initial notice.

DATES: This document is effective August 7, 2015.

FOR FURTHER INFORMATION CONTACT: Specialty Programs Division, Business Programs, Rural Business-Cooperative Service, United States Department of Agriculture, 1400 Independence Avenue SW., MS 3226, Room 4204-South, Washington, DC 20250-3226, telephone (202) 720-1400.

SUPPLEMENTARY INFORMATION: In FR Doc. 2015-18391 of July 28, 2015 (80 FR 44925), make the following corrections:

1. On page 44928, in the first column, at the fifty-first line, remove “September 28” and add “August 27” in its place.

Dated: July 31, 2015.
Lillian E. Salerno,
Administrator, Rural Business-Cooperative Service.

[FR Doc. 2015-19405 Filed 8-6-15; 8:45 am]

BILLING CODE 3410-XY-P